SECURITIES AND EXCHANGE COMMISSION

[Release No. 34-93316; File No. SR-CboeBZX-2021-014]

Self-Regulatory Organizations; Cboe BZX Exchange, Inc.; Notice of Withdrawal of a Proposed Rule Change To Allow Invesco Focused Discovery Growth ETF and Invesco Select Growth ETF To Strike and Publish Multiple Intraday Net Asset Values

October 14, 2021.

On January 22, 2021, Cboe BZX Exchange, Inc. (the “Exchange”) filed with the Securities and Exchange Commission (“Commission”), pursuant to Section 19(b)(1) of the Securities Exchange Act of 1934 (“Act”) ¹ and Rule 19b-4 thereunder,² a proposed rule change to allow Invesco Focused Discovery Growth ETF and Invesco Select Growth ETF to strike and publish multiple intraday net asset values.

¹ 15 U.S.C. 78s(b)(1).

² 17 CFR 240.19b-4.

The proposed rule change was published for comment in the Federal Register on February 10, 2021.³ On March 24, 2021, pursuant to Section 19(b)(2) of the Act,⁴ the Commission designated a longer period within which to approve the proposed rule change, disapprove the proposed rule change, or institute proceedings to determine whether to disapprove the proposed rule change.⁵ On May 11, 2021, the Commission instituted proceedings under Section 19(b)(2)(B) of the Act ⁶ to determine whether to approve or disapprove the proposed rule change.⁷ On August 6, 2021, the Commission designated a longer period within which to issue an order approving or disapproving the proposed rule change.⁸ The Commission received no comment letters on the proposed rule change. On August 12, 2021, the Exchange withdrew the proposed rule change (SR-CboeBZX-2021-014).

³ See Securities Exchange Act Release No. 91064 (February 4, 2021), 86 FR 8935.

⁴ 15 U.S.C. 78s(b)(2).

⁵ See Securities Exchange Act Release No. 91398, 86 FR 16650 (March 30, 2021).

⁶ 15 U.S.C. 78s(b)(2)(B).

⁷ See Securities Exchange Act Release No. 91845, 86 FR 26767 (May 17, 2021).

⁸ See Securities Exchange Act Release No. 92564, 86 FR 44459 (August 12, 2021).

For the Commission, by the Division of Trading and Markets, pursuant to delegated authority.⁹
⁹ 17 CFR 200.30-3(a)(12).
J. Matthew DeLesDernier,
Assistant Secretary.

[FR Doc. 2021-22808 Filed 10-19-21; 8:45 am]

BILLING CODE 8011-01-P